DEPARTMENT OF ENERGY

Federal Energy Regulatory Commission

Combined Notice of Filings #1

Take notice that the Commission received the following electric corporate filings:

Docket Numbers: EC12-135-000.

Applicants: Energia Sierra Juarez U.S., LLC.

Description: Section 203 Application of Energia Sierra Juarez U.S., LLC.

Filed Date: 8/20/12.

Accession Number: 20120820-5183.

Comments Due: 5 p.m. ET 9/10/12.

Take notice that the Commission received the following electric rate filings:

Docket Numbers: ER10-2763-004; ER10-2732-004; ER10-2733-004; ER10-2734-004; ER10-2736-004; ER10-2737-004; ER10-2741-004; ER10-2749-004; ER10-2752-004.

Applicants: Emera Energy Services Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy U.S. Subsidiary No. 1, Inc., Emera Energy U.S. Subsidiary No. 2, Inc., Bangor Hydro Electric Company.

Description: Report of Changes in Status Bangor Hydro Electric Company, et al.

Filed Date: 8/20/12.

Accession Number: 20120820-5181.

Comments Due: 5 p.m. ET 9/10/12.

Docket Numbers: ER12-668-001.

Applicants: Midwest Independent Transmission System Operator, Inc.

Description: 8-20-2012 ELMP Compliance Filing to be effective 12/31/9998.

Filed Date: 8/21/12.

Accession Number: 20120821-5003.

Comments Due: 5 p.m. ET 9/11/12.

Docket Numbers: ER12-1265-003.

Applicants: Midwest Independent Transmission System Operator, Inc.

Description: clarson@misoenerg.org to be effective 6/12/201.

Filed Date: 8/21/12.

Accession Number: 20120821-5007.

Comments Due: 5 p.m. ET 9/11/12.

Docket Numbers: ER12-1835-000.

Applicants: Midwest Independent Transmission System Operator, Inc.

Description: Midwest Independent Transmission System Operator, Inc. submits deficiency response.

Filed Date: 8/21/12.

Accession Number: 20120821-5029.

Comments Due: 5 p.m. ET 9/11/12.

Docket Numbers: ER12-2488-000.

Applicants: California Independent System Operator Corporation.

Description: CAISO Order No. 760 Compliance Filing to be effective 8/20/2012.

Filed Date: 8/20/12.

Accession Number: 20120820-5123.

Comments Due: 5 p.m. ET 9/10/12.

Docket Numbers: ER12-2489-000.

Applicants: New York Independent System Operator, Inc., Niagara Mohawk Power Corporation.

Description: Interconnection Agreement No. 1913 between NiMo and Village of Solvay to be effective 6/18/2012.

Filed Date: 8/20/12.

Accession Number: 20120820-5147.

Comments Due: 5 p.m. ET 9/10/12.

Docket Numbers: ER12-2490-000.

Applicants: Southern California Edison Company.

Description: GIA & Distribution Service Agreement Houweling Nurseries Oxnard, Inc. to be effective 8/10/2012.

Filed Date: 8/21/12.

Accession Number: 20120821-5005.

Comments Due: 5 p.m. ET 9/11/12.

Docket Numbers: ER12-2491-000.

Applicants: Niagara Mohawk Power Corporation.

Description: Notice of Cancellation of Service Agreements and Request for Waiver of Commission Notice Requirements of Niagara Mohawk Power Corporation.

Filed Date: 8/20/12.

Accession Number: 20120820-5185.

Comments Due: 5 p.m. ET 9/10/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2012.
Nathaniel J. Davis, Sr.,
Deputy Secretary.

[FR Doc. 2012-21138 Filed 8-27-12; 8:45 am]

BILLING CODE 6717-01-P